DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2020, through December 31, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Edward Ries, Avon, Ohio, Court of Federal Claims No: 20-1711V

2. Allison Reilly, Boston, Massachusetts, Court of Federal Claims No: 20-1712V

3. Gail Wiggins, Renton, Washington, Court of Federal Claims No: 20-1713V

4. Gorden Collins, Biddeford, Maine, Court of Federal Claims No: 20-1715V

5. Amanda Trombatura on behalf of G.T., Jackson, New Jersey, Court of Federal Claims No: 20-1716V

6. Lisa Plaza, Taylor, Michigan, Court of Federal Claims No: 20-1717V

7. John Robinson, Wheaton, Illinois, Court of Federal Claims No: 20-1718V

8. Taner Baylee Nguyen, Fort Campbell, Kentucky, Court of Federal Claims No: 20-1719V

9. Michael Mantagas, Manalapan, New Jersey, Court of Federal Claims No: 20-1720V

10. Jeanille Gatta, Wilmington, Delaware, Court of Federal Claims No: 20-1721V

11. Stacey Beckerley, San Diego, California, Court of Federal Claims No: 20-1723V

12. Jennifer Powell, Tyler, Texas, Court of Federal Claims No: 20-1726V

13. Sovanna Sin, Stockton, California, Court of Federal Claims No: 20-1727V

14. Yvonne Nelson-Eastman, Howard Beach, New York, Court of Federal Claims No: 20-1728V

15. Brian Eveland, Osage Beach, Missouri, Court of Federal Claims No: 20-1729V

16. Steven Rothenberg, Glynco, Georgia, Court of Federal Claims No: 20-1730V

17. Jennifer Salvaggio, Boston, Massachusetts, Court of Federal Claims No: 20-1731V

18. Lori DeCostanzo, New York, New York, Court of Federal Claims No: 20-1733V

19. Stephanie Banks and Bradley Banks on behalf of B.B., Orange, California, Court of Federal Claims No: 20-1734V

20. Jennifer Craft, Media, Pennsylvania, Court of Federal Claims No: 20-1735V

21. Brenda Lindsey, Richmond, Virginia, Court of Federal Claims No: 20-1737V

22. Michael Gauer, Boise, Idaho, Court of Federal Claims No: 20-1738V

23. Kerry Grant, Canastota, New York, Court of Federal Claims No: 20-1740V

24. Keira S. Brooke, Middletown, Ohio, Court of Federal Claims No: 20-1741V

25. Pamela Cavanagh, Boston, Massachusetts, Court of Federal Claims No: 20-1742V

26. CaSaundra Mullen, Boston, Massachusetts, Court of Federal Claims No: 20-1743V

27. Kevin Reddington, North Wales, Pennsylvania, Court of Federal Claims No: 20-1744V

28. Sena Slaughter, Fayetteville, Arkansas, Court of Federal Claims No: 20-1745V

29. Sheryl Turk, Oceanside, New York, Court of Federal Claims No: 20-1747V

30. Pamela Caswell, Escanaba, Michigan, Court of Federal Claims No: 20-1749V

31. Mairi Luce, Boston, Massachusetts, Court of Federal Claims No: 20-1750V

32. Margaret Khan, Farmingdale, New York, Court of Federal Claims No: 20-1751V

33. Dolores Ramirez, Glendale, Arizona, Court of Federal Claims No: 20-1752V

34. Tawnette Harris, Renton, Washington, Court of Federal Claims No: 20-1753V

35. Tiffany Madrid, Orlando, Florida, Court of Federal Claims No: 20-1754V

36. Malanda Dixon, Dickson, Tennessee, Court of Federal Claims No: 20-1755V

37. Danielle Rodriguez, Kissimmee, Florida, Court of Federal Claims No: 20-1756V

38. Joseph Ferguson, Johnson City, New York, Court of Federal Claims No: 20-1757V

39. Lindsay Nowland, Baltimore, Maryland, Court of Federal Claims No: 20-1758V

40. Rosemary Chaves, Ft. Myers, Florida, Court of Federal Claims No: 20-1759V

41. Jacqueline “Jackie” Smith, Owatonna, Minnesota, Court of Federal Claims No: 20-1760V

42. Christyne Ruffolo, Boston, Massachusetts, Court of Federal Claims No: 20-1761V

43. James Vaughan, Crofton, Maryland, Court of Federal Claims No: 20-1762V

44. Jaclyn McNally, Chicago, Illinois, Court of Federal Claims No: 20-1763V

45. Maya Federman, Montclair, California, Court of Federal Claims No: 20-1764V

46. Roland O'Connor, Spring City, Pennsylvania, Court of Federal Claims No: 20-1765V

47. Ellen Decker, LaVale, Maryland, Court of Federal Claims No: 20-1766V

48. Mayra Callejas, Katy, Texas, Court of Federal Claims No: 20-1767V

49. Kimberly Neighbors, Tulsa, Oklahoma, Court of Federal Claims No: 20-1768V

50. Theresa Copley-Smith, Boston, Massachusetts, Court of Federal Claims No: 20-1769V

51. Richard Stavale, Portland, Oregon, Court of Federal Claims No: 20-1770V

52. Joel Wilson, Richfield, Minnesota, Court of Federal Claims No: 20-1771V

53. Joyce Kasper, Bellevue, Washington, Court of Federal Claims No: 20-1772V

54. Elizabeth Aldea-Cruz, Washington, District of Columbia, Court of Federal Claims No: 20-1773V

55. Danielle Allen, Washington, District of Columbia, Court of Federal Claims No: 20-1774V

56. Joel Alvarez, Washington, District of Columbia, Court of Federal Claims No: 20-1775V

57. Juanito Aquino, Washington, District of Columbia, Court of Federal Claims No: 20-1776V

58. Lea Ayotte, Washington, District of Columbia, Court of Federal Claims No: 20-1777V

59. Nancy Bernhardt, Washington, District of Columbia, Court of Federal Claims No: 20-1778V

60. Jessica Blankenship, Washington, District of Columbia, Court of Federal Claims No: 20-1779V

61. George Potak, Mesquite, Nevada, Court of Federal Claims No: 20-1780V

62. Lucinda Long, Port St. Lucie, Florida, Court of Federal Claims No: 20-1781V

63. Courtney Counts and Christopher Counts on behalf of M.C., Phoenix, Arizona, Court of Federal Claims No: 20-1782V

64. Laura Cosden, Gettysburg, Pennsylvania, Court of Federal Claims No: 20-1783V

65. Donna Smith, Boston, Massachusetts, Court of Federal Claims No: 20-1785V

66. Michele Nunziata, Rochester, New York, Court of Federal Claims No: 20-1786V

67. Judy Robinson, Bagram, Afghanistan, Court of Federal Claims No: 20-1787V

68. Sara J. White, North Tonawanda, New York, Court of Federal Claims No: 20-1788V

69. Annette Danielle Lucero, Clackamas, Oregon, Court of Federal Claims No: 20-1789V

70. Amanda McCartney, Ocala, Florida, Court of Federal Claims No: 20-1790V

71. Juliette Levy on behalf of J.L., Orange, California, Court of Federal Claims No: 20-1791V

72. David Stewart on behalf of J.S., Coos Bay, Oregon, Court of Federal Claims No: 20-1792V

73. Roxanne Cardinal, Boston, Massachusetts, Court of Federal Claims No: 20-1793V

74. Christine Kasulis, Boston, Massachusetts, Court of Federal Claims No: 20-1794V

75. Amanda DeCook, Concord, New Hampshire, Court of Federal Claims No: 20-1795V

76. Jason Loos, Rochester, Minnesota, Court of Federal Claims No: 20-1796V

77. Arkie Tucker-Corley, Lebanon, Virginia, Court of Federal Claims No: 20-1797V

78. Gerald Mesecher, John Day, Oregon, Court of Federal Claims No: 20-1798V

79. Andrew Harmon and Jill Harmon on behalf of K.H., Grand Junction, Colorado, Court of Federal Claims No: 20-1799V

80. Nada Resnik-McNenny, Lincoln, Nebraska, Court of Federal Claims No: 20-1800V

81. Carol Ann Girgenti, Newport Richey, Florida, Court of Federal Claims No: 20-1802V

82. Nicole Bingham, Salt Lake City, Utah, Court of Federal Claims No: 20-1803V

83. Deborah Mosora, Sharon, Pennsylvania, Court of Federal Claims No: 20-1804V

84. Jennifer Priest, Sarasota, Florida, Court of Federal Claims No: 20-1805V

85. Elaine Tornatore, Glassboro, New Jersey, Court of Federal Claims No: 20-1806V

86. Walter Corter, Seattle, Washington, Court of Federal Claims No: 20-1807V

87. Cindal Menard, Concord, New Hampshire, Court of Federal Claims No: 20-1809V

88. James Olsen, Harrison, Arkansas, Court of Federal Claims No: 20-1810V

89. Curtiss Gunter on behalf of Kelley Gunter, Albany, Kentucky, Court of Federal Claims No: 20-1812V

90. Linda Charlene Clifton, Perryville, Mississippi, Court of Federal Claims No: 20-1813V

91. Calvin Riley, Mount Pleasant, Texas, Court of Federal Claims No: 20-1814V

92. Michael J. Sayles, Ft. Worth, Texas, Court of Federal Claims No: 20-1817V

93. Jeffrey A. Fowler, Wellesley Hills, Massachusetts, Court of Federal Claims No: 20-1819V

94. James Barnett, Gainesville, Virginia, Court of Federal Claims No: 20-1820V

95. Felicia Inez Williams, Philadelphia, Pennsylvania, Court of Federal Claims No: 20-1821V

96. Angela D. Henderson, Roanoke, Virginia, Court of Federal Claims No: 20-1822V

97. Amanda Washkalavitch, Upland, Pennsylvania, Court of Federal Claims No: 20-1823V

98. Jill Nelson, Fergus Falls, Minnesota, Court of Federal Claims No: 20-1824V

99. Ernesto Cardenas, Skokie, Illinois, Court of Federal Claims No: 20-1825V

100. Kathy Emrich and Jeremy Emrich on behalf of K.E., North Charleston, South Carolina, Court of Federal Claims No: 20-1826V

101. Mohamed Omar, Boston, Massachusetts, Court of Federal Claims No: 20-1827V

102. Deanna Medina, Boston, Massachusetts, Court of Federal Claims No: 20-1828V

103. Tara Leach, Tamaqua, Pennsylvania, Court of Federal Claims No: 20-1829V

104. Christina Ramirez, Gainesville, Virginia, Court of Federal Claims No: 20-1830V

105. Nicole Fey, Boynton Beach, Florida, Court of Federal Claims No: 20-1832V

106. Jessica Puckett on behalf of E.P., Fort Mill, South Carolina, Court of Federal Claims No: 20-1833V

107. Will Faust, New York, New York, Court of Federal Claims No: 20-1835V

108. Wendy W. Coppack on behalf of Estate of Hazey Wilkinson, Deceased, Dothan, Alabama, Court of Federal Claims No: 20-1836V

109. Liesl Ries, Columbus, Ohio, Court of Federal Claims No: 20-1838V

110. Anne Garza, Southlake, Texas, Court of Federal Claims No: 20-1839V

111. Nubia Rivera, Philadelphia, Pennsylvania, Court of Federal Claims No: 20-1840V

112. Kathy Stiller, East Aurora, New York, Court of Federal Claims No: 20-1841V

113. Eve Bunting-Smith, White Plains, New York, Court of Federal Claims No: 20-1842V

114. Nelson Ferry, Murphysboro, Illinois, Court of Federal Claims No: 20-1843V

115. Fayth Brennan, Monticello, Minnesota, Court of Federal Claims No: 20-1844V

116. Sylvia Lyons, Chicago Heights, Illinois, Court of Federal Claims No: 20-1846V

117. Shawn Ramey, Troy, Michigan, Court of Federal Claims No: 20-1847V

118. Debra Heagle, Stevens Point, Wisconsin, Court of Federal Claims No: 20-1848V

119. Kathryn Vashro, New London, New Hampshire, Court of Federal Claims No: 20-1849V

120. Liana Krissoff, Boston, Massachusetts, Court of Federal Claims No: 20-1850V

121. Vicky Schultz, Boston, Massachusetts, Court of Federal Claims No: 20-1851V

122. Stacey Hurley, Newark, Delaware, Court of Federal Claims No: 20-1852V

123. Melissa Caparrelli, Plantation, Florida, Court of Federal Claims No: 20-1853V

124. Michelle Whitaker, Boston, Massachusetts, Court of Federal Claims No: 20-1855V

125. Tresa Burrell, Boston, Massachusetts, Court of Federal Claims No: 20-1856V

126. Gabriel Flores, Chicago, Illinois, Court of Federal Claims No: 20-1858V

127. Jared Stern, Chicago, Illinois, Court of Federal Claims No: 20-1860V

128. Kerri Blumenthal, Boston, Massachusetts, Court of Federal Claims No: 20-1861V

129. Shelly Priebe, Austin, Texas, Court of Federal Claims No: 20-1862V

130. Carol Powley, Middleburg, Pennsylvania, Court of Federal Claims No: 20-1863V

131. Barbara Brewer, Russellville, Alabama, Court of Federal Claims No: 20-1864V

132. Kathleen Clendenning, Evanston, Illinois, Court of Federal Claims No: 20-1865V

133. Lindsay Geraghty, Western Springs, Illinois, Court of Federal Claims No: 20-1866V

134. Linda Perrico, Boston, Massachusetts, Court of Federal Claims No: 20-1867V

135. Theresa Buoni, Boston, Massachusetts, Court of Federal Claims No: 20-1868V

136. Deanna Harris, Lewiston, Idaho, Court of Federal Claims No: 20-1869V

137. Gavin Roth, Lexington, Kentucky, Court of Federal Claims No: 20-1872V

138. Glenda Gotlieb, Suffern, New York, Court of Federal Claims No: 20-1873V

139. Bria Barry, Boston, Massachusetts, Court of Federal Claims No: 20-1874V

140. Lauren Browning, Glendale, California, Court of Federal Claims No: 20-1875V

141. Elizabeth Jones, Ocean Pines, Maryland, Court of Federal Claims No: 20-1876V

142. Catherine DiBiase, Warwick, Rhode Island, Court of Federal Claims No: 20-1877V

143. Bridget Strobl, Santa Cruz, California, Court of Federal Claims No: 20-1879V

144. Dorothy Sell, Boston, Massachusetts, Court of Federal Claims No: 20-1880V

145. Christine Harbison, Lafayette, Louisiana, Court of Federal Claims No: 20-1881V

146. Kelly Joyce, Boston, Massachusetts, Court of Federal Claims No: 20-1882V

147. Amanda Heneage, Columbia, South Carolina, Court of Federal Claims No: 20-1886V

148. Virginia Rossiter, New Hartford, New York, Court of Federal Claims No: 20-1888V

149. Donna M. Winters, Groveland, Florida, Court of Federal Claims No: 20-1890V

150. Don Brown, Washington, District of Columbia, Court of Federal Claims No: 20-1891V

151. Stefanie Herbert and Andrew Herbert on behalf of E.H., Houston, Texas, Court of Federal Claims No: 20-1892V

152. Carol Lee Evans, Washington, District of Columbia, Court of Federal Claims No: 20-1893V

153. George Brock, Eau Claire, Wisconsin, Court of Federal Claims No: 20-1894V

154. David B. Johnson, Washington, District of Columbia, Court of Federal Claims No: 20-1895V

155. Noel Fie, San Luis Obispo, California, Court of Federal Claims No: 20-1896V

156. Julie Finn, M.D., Farmington Hills, Michigan, Court of Federal Claims No: 20-1897V

157. Emily Fenster, Armonk, New York, Court of Federal Claims No: 20-1898V

158. Tina Wicks, Chesterfield, Missouri, Court of Federal Claims No: 20-1899V

159. Rebecca Joan Miller, Latrobe, Pennsylvania, Court of Federal Claims No: 20-1900V

160. Clare Dominque, Worcester, Massachusetts, Court of Federal Claims No: 20-1904V

161. Linda Timberlake, Peoria, Illinois, Court of Federal Claims No: 20-1905V

162. Rayford Harden, Loganville, Georgia, Court of Federal Claims No: 20-1906V

163. Mykayla Carollo, Winter Park, Florida, Court of Federal Claims No: 20-1907V

164. Alice Rivera, Vero Beach, Florida, Court of Federal Claims No: 20-1908V

165. Mackay Heasley, Washington, District of Columbia, Court of Federal Claims No: 20-1909V

166. Kayla Klinglesmith, Washington, District of Columbia, Court of Federal Claims No: 20-1910V

167. Benjamin Kochevar, Washington, District of Columbia, Court of Federal Claims No: 20-1911V

168. Ashley Koon, Washington, District of Columbia, Court of Federal Claims No: 20-1912V

169. Karen Labonte, Washington, District of Columbia, Court of Federal Claims No: 20-1913V

170. Andrea Lepera, Washington, District of Columbia, Court of Federal Claims No: 20-1914V

171. Anne Mathura, Washington, District of Columbia, Court of Federal Claims No: 20-1915V

172. Allison Miller, Washington, District of Columbia, Court of Federal Claims No: 20-1916V

173. Kimberely Mullins, Washington, District of Columbia, Court of Federal Claims No: 20-1917V

174. Alan Oka, Washington, District of Columbia, Court of Federal Claims No: 20-1918V

175. James Patterson, Washington, District of Columbia, Court of Federal Claims No: 20-1919V

176. Loni Sansevere, Margate, Florida, Court of Federal Claims No: 20-1920V

177. Theodore R. East, Jr., Glencoe, Alabama, Court of Federal Claims No: 20-1921V

178. Barbara Hickey, Staten Island, New York, Court of Federal Claims No: 20-1922V

179. James Hodge, Boston, Massachusetts, Court of Federal Claims No: 20-1923V

180. Ye Xia on behalf of Estate of S.L., Deceased, Boston, Massachusetts, Court of Federal Claims No: 20-1924V

181. Earl Ball, Boston, Massachusetts, Court of Federal Claims No: 20-1926V

182. Michael R. Pulley, Pikeville, North Carolina, Court of Federal Claims No: 20-1927V

183. Laurel Acosta, Boston, Massachusetts, Court of Federal Claims No: 20-1928V

184. Jennifer A. Clasen, New Berlin, Wisconsin, Court of Federal Claims No: 20-1929V

185. Menakshi Bhat, Boston, Massachusetts, Court of Federal Claims No: 20-1930V

186. Brian Chew, Eatontown, New Jersey, Court of Federal Claims No: 20-1931V

187. Joel Greco, Greensboro, North Carolina, Court of Federal Claims No: 20-1932V

188. Kathleen Mau, Cleveland, Ohio, Court of Federal Claims No: 20-1933V

189. James James, Boston, Massachusetts, Court of Federal Claims No: 20-1934V

190. Janet Forbes, Ocala, Florida, Court of Federal Claims No: 20-1935V

191. Daniel Miller, Boston, Massachusetts, Court of Federal Claims No: 20-1937V

192. Gregory Streeter, Morrisville, Vermont, Court of Federal Claims No: 20-1939V

193. Bernadette Strand, Oconomowoc, Wisconsin, Court of Federal Claims No: 20-1940V

194. Rose C. Williams, Kenner, Louisiana, Court of Federal Claims No: 20-1941V

195. Taone Randazzo, Boston, Massachusetts, Court of Federal Claims No: 20-1942V

196. Brenda Hedeen, Boston, Massachusetts, Court of Federal Claims No: 20-1943V

197. Mariell Meacham, New York, New York, Court of Federal Claims No: 20-1944V

198. James Crogan, Boston, Massachusetts, Court of Federal Claims No: 20-1945V

199. Daniel R. Cole, Sr., Somers Point, New Jersey, Court of Federal Claims No: 20-1946V

200. Cynthia V. Acheampong, Dumfries, Virginia, Court of Federal Claims No: 20-1947V

201. Sherry F. Mitchell, Collierville, Tennessee, Court of Federal Claims No: 20-1950V

202. Katie Danso-Danquah, Richmond, Virginia, Court of Federal Claims No: 20-1951V

203. Cathy Humerickhouse, Visalia, California, Court of Federal Claims No: 20-1953V

204. Kathy Foulker, Rockford, Illinois, Court of Federal Claims No: 20-1955V

205. Eva Ivey on behalf of M.I., Bastrop, Texas, Court of Federal Claims No: 20-1956V

206. Tanner Nadeau, Barron, Wisconsin, Court of Federal Claims No: 20-1957V

207. Harlan Field, Boston, Massachusetts, Court of Federal Claims No: 20-1958V

208. Allison A. Hayes, Grand Ledge, Michigan, Court of Federal Claims No: 20-1959V

209. Michele Snyder, Buffalo, New York, Court of Federal Claims No: 20-1961V

210. Debra Moore, Boston, Massachusetts, Court of Federal Claims No: 20-1962V

211. Ann Swales, California, Maryland, Court of Federal Claims No: 20-1963V

212. Andrew Newell, Terre Haute, Indiana, Court of Federal Claims No: 20-1964V

213. Mikael Langner, Boston, Massachusetts, Court of Federal Claims No: 20-1965V

214. Dawn Felton, Wake Forest, North Carolina, Court of Federal Claims No: 20-1969V

215. Don Shields, Houston, Texas, Court of Federal Claims No: 20-1970V

216. Eileen Smestad, Farmingdale, New York, Court of Federal Claims No: 20-1971V

217. Scott Southerland, St. Clair Shores, Michigan, Court of Federal Claims No: 20-1972V

218. Yolanda Marie Martinez, Alamosa, Colorado, Court of Federal Claims No: 20-1973V

219. Scott Southerland, St. Clair Shores, Michigan, Court of Federal Claims No: 20-1976V

220. Dana Smith, Fort Smith, Arizona, Court of Federal Claims No: 20-1977V

221. Sandra Jean Riffelmacher, Gloucester, Massachusetts, Court of Federal Claims No: 20-1980V

222. Shirley Scott, Flowood, Mississippi, Court of Federal Claims No: 20-1982V

223. Maria Mendez, Boston, Massachusetts, Court of Federal Claims No: 20-1985V

224. Curtis Ingram, Boston, Massachusetts, Court of Federal Claims No: 20-1987V

225. Nancy Lee McCarn, Cape Coral, Florida, Court of Federal Claims No: 20-1988V

226. Carol Preis, Garden City, New Jersey, Court of Federal Claims No: 20-1989V

227. Desiree Savage-Davis, Boston, Massachusetts, Court of Federal Claims No: 20-1990V

228. Emily Smith, Toledo, Ohio, Court of Federal Claims No: 20-1993V

229. Patricia Doyle, Jonesboro, Georgia, Court of Federal Claims No: 20-1994V

230. Mhyrynde Noa, Dresher, Pennsylvania, Court of Federal Claims No: 20-1996V

231. Kathy Terry, Dresher, Pennsylvania, Court of Federal Claims No: 20-1998V

232. Lynda Wojan, Menifee, California, Court of Federal Claims No: 20-1999V

233. Zsuzsanna Kimball, Boston, Massachusetts, Court of Federal Claims No: 20-2000V

234. Sheralee Marshall, Boston, Massachusetts, Court of Federal Claims No: 20-2001V

235. Richard Lombardozzi, Boston, Massachusetts, Court of Federal Claims No: 20-2005V

236. Catherine Phipps, Boston, Massachusetts, Court of Federal Claims No: 20-2006V

237. Jodi McGraw, Boston, Massachusetts, Court of Federal Claims No: 20-2007V

238. Brian Phillip Crane, Boston, Massachusetts, Court of Federal Claims No: 20-2008V

239. Daniel Komarchuk, Boston, Massachusetts, Court of Federal Claims No: 20-2009V

240. Susan Clark-Granger, Boston, Massachusetts, Court of Federal Claims No: 20-2010V

241. Jerome Pittman, Sr. Union City, Georgia, Court of Federal Claims No: 20-2011V

242. Judith Gilmour, Boston, Massachusetts, Court of Federal Claims No: 20-2012V

243. Teresa L. Ritter, New Berlin, Wisconsin, Court of Federal Claims No: 20-2013V

244. Michael Graves, Boston, Massachusetts, Court of Federal Claims No: 20-2014V

245. William E. Wohlleben, New Berlin, Wisconsin, Court of Federal Claims No: 20-2015V

246. Jill Fudesco, Hartford, Connecticut, Court of Federal Claims No: 20-2017V

247. Joseph Soares, Palm Coast, Florida, Court of Federal Claims No: 20-2019V

248. Paul Enstrom, Greensboro, North Carolina, Court of Federal Claims No: 20-2020V

249. John M. Lewis, Boscobel, Wisconsin, Court of Federal Claims No: 20-2021V

250. Kristine E. Zadrazil, Sun Prairie, Wisconsin, Court of Federal Claims No: 20-2024V

251. Andrea Navis, Waukesha, Wisconsin, Court of Federal Claims No: 20-2025V

252. Michelle Shea, Summit, Wisconsin, Court of Federal Claims No: 20-2026V

253. Devin Hildebrand on behalf of T. H. Burlington, New Jersey, Court of Federal Claims No: 20-2027V

254. Katharine Towlen, Linwood, New Jersey, Court of Federal Claims No: 20-2028V

255. Maria Belen Banaag, Boston, Massachusetts, Court of Federal Claims No: 20-2029V

256. Marcus Bowen, Boston, Massachusetts, Court of Federal Claims No: 20-2030V

257. Jennifer Meyer, Boston, Massachusetts, Court of Federal Claims No: 20-2031V

258. Ilse Kershaw, Boston, Massachusetts, Court of Federal Claims No: 20-2032V

259. Thomas Gothers, Norristown, Pennsylvania, Court of Federal Claims No: 20-2033V

260. Jacqueline Archibald, Boston, Massachusetts, Court of Federal Claims No: 20-2034V

261. Bridget Hastings, Boston, Massachusetts, Court of Federal Claims No: 20-2035V

262. Dee Wharton, Boston, Massachusetts, Court of Federal Claims No: 20-2036V

263. Brenda Pickard, Boston, Massachusetts, Court of Federal Claims No: 20-2040V

264. Judith Hatt, Boston, Massachusetts, Court of Federal Claims No: 20-2041V

265. Shana McDade, Atlanta, Georgia, Court of Federal Claims No: 20-2045V

266. Margie S. Keeling, Jackson, Mississippi, Court of Federal Claims No: 20-2048V

267. Belkis Diaz, Lakeland, Florida, Court of Federal Claims No: 20-2049V

268. Leslie Andersen, Boston, Massachusetts, Court of Federal Claims No: 20-2050V

269. Monique Ginn, Newark, New Jersey, Court of Federal Claims No: 20-2052V

270. Jonathan Dilger, Baltimore, Maryland, Court of Federal Claims No: 20-2054V

271. Cheryl Fajge, Souderton, Pennsylvania, Court of Federal Claims No: 20-2055V

272. Tiffany Curry on behalf of J. B. Hopewell, Virginia, Court of Federal Claims No: 20-2057V

273. Margaret Eddings, Coeur D'Alene, Idaho, Court of Federal Claims No: 20-2058V

274. Megan Hebbard-Contreras, Dresher, Pennsylvania, Court of Federal Claims No: 20-2059V

275. Francisco Marcillo, Sarasota, Florida, Court of Federal Claims No: 20-2061V

276. Keysha Ellis, Plano, Texas, Court of Federal Claims No: 20-2063V

277. Mariah Chatman, Manning, South Carolina, Court of Federal Claims No: 20-2064V

278. Brandon Winkler, Beverly Hills, California, Court of Federal Claims No: 20-2065V

279. George Heidrich, Madison, Wisconsin, Court of Federal Claims No: 20-2066V

280. Pierrette Jacobs, Phoenix, Arizona, Court of Federal Claims No: 20-2067V

281. Pamela Colby, Beverly Hills, California, Court of Federal Claims No: 20-2068V

282. Lori Roulette, Beverly Hills, California, Court of Federal Claims No: 20-2069V

283. Timothy Sisneros, Beverly Hills, California, Court of Federal Claims No: 20-2070V

284. Jeannine Woods, Beverly Hills, California, Court of Federal Claims No: 20-2071V

285. Milford Stingfellow, Beverly Hills, California, Court of Federal Claims No: 20-2072V

286. Susan Poynton, Beverly Hills, California, Court of Federal Claims No: 20-2073V

287. Harriet Papastamatakis, New York, New York, Court of Federal Claims No: 20-2074V

288. May Tom, Beverly Hills, California, Court of Federal Claims No: 20-2075V

289. Angelynn Ellenbecker, Beverly Hills, California, Court of Federal Claims No: 20-2076V

290. Luz Roa, Beverly Hills, California, Court of Federal Claims No: 20-2077V

291. Sabrina Eve Valentine, Beverly Hills, California, Court of Federal Claims No: 20-2078V

292. Nurcys Grimes, Tustin, California, Court of Federal Claims No: 20-2082V

[FR Doc. 2021-01331 Filed 1-21-21; 8:45 am]

BILLING CODE 4165-15-P